DEPARTMENT OF TRANSPORTATION

National Highway Traffic Safety Administration

[Docket No. NHTSA 2001-9430; Notice 1]

Bajaj Auto, Ltd.; Receipt of Application for Temporary Exemption From Federal Motor Vehicle Safety Standard No. 123

Bajaj Auto, Ltd., an Indian corporation, through Rex Products, Inc. of South San Francisco, CA, dba Bajaj USA, has applied for a temporary exemption of two years from a requirement of S5.2.1 (Table 1) of Federal Motor Vehicle Safety Standard No. 123 Motorcycle Controls and Displays. The basis of the request is that “compliance with the standard would prevent the manufacturer from selling a motor vehicle with an overall safety level at least equal to the overall safety level of nonexempt vehicles,” 49 U.S.C. 30113(b)(3)(B)(iv).

We are publishing this notice of receipt of an application in accordance with the requirements of 49 U.S.C. 30113(b)(2). This action does not represent any judgment of the agency on the merits of the application.

Bajaj has applied on behalf of its Saffire motor scooters (“scooters”) with automatic clutches. The scooters are defined as “motorcycles” for purposes of compliance with the Federal motor vehicle safety standards. According to Bajaj, the Saffire has a 90cc engine and a top speed of 60 km/h.

If a motorcycle is produced with rear wheel brakes, S5.2.1 of Standard No. 123 requires that the brakes be operable through the right foot control, though the left handlebar is permissible for motor driven cycles (Item 11, Table 1). Bajaj would like to use the left handlebar for the rear brake control for the scooters. Standard No. 123 specifies the left handlebar as the location for the manual clutch or integrated clutch and gear change, but there is no clutch on the automatic scooters.

Bajaj argues that the overall level of safety of the scooters equals or exceeds that of a motorcycle that complies with the brake control location requirement of Standard No. 123. Although “it is true that the human foot can apply much more force than can the hand, the foot is much less sensitive to travel distance. With the lever/cable operated brake system used on the Saffire, there is more than enough brake actuation force available to the hand of even the smallest rider.”

Bajaj intends to begin sales in the United States “for market testing purposes during the 2001 sales year” and would like to include the Saffire in its product line; without an exemption it would be unable to do so.

Bajaj anticipates sales of not more than 2500 scooters a year while an exemption is in effect. It believes that an exemption would be in the public interest and consistent with the objectives of traffic safety because it is intended for low-speed urban use, in “congested traffic conditions,” and “has been tested by long use in India and the rest of the world.” The petitioner states that “neither consumer groups nor governmental authorities have raised any safety concerns as a result of this design.” The scooter provides “environmentally clean and fuel efficient * * * urban transportation.” Specifically, “the exhaust, crankcase, and evaporative emissions of the motor scooter's very small engine have been demonstrated to be lower than alternative means of transportation such as large motorcycles.” If the exemption is granted, “the American consumer will be provided with a broader range of choice of low-cost, efficient, transportation.”

Interested persons are invited to submit comments on the application described above. Comments should refer to the docket number and the notice number, and be submitted to: Docket Management, Room PL-401, 400 Seventh Street, SW, Washington, DC 20590. It is requested but not required that 10 copies be submitted.

All comments received before the close of business on the comment closing date indicated below will be considered, and will be available for examination in the docket at the above address both before and after that date. The Docket Room is open from 10 a.m. until 5 p.m. To the extent possible, comments filed after the closing date will also be considered.

Notice of final action on the application will be published in the Federal Register pursuant to the authority indicated below.

Comment closing date: May 21, 2001.

(49 U.S.C. 30113; delegations of authority at 49 CFR 1.50. and 501.8)
Issued on April 17, 2001.
Stephen R. Kratzke,
Associate Administrator for Safety Performance Standards.

[FR Doc. 01-9840 Filed 4-19-01; 8:45 am]

BILLING CODE 4910-59-P